ENVIRONMENTAL PROTECTION AGENCY

[FRL-8329-8]

Public Water System Supervision Program Revisions for the State of Michigan

AGENCY: Environmental Protection Agency (EPA).

ACTION: Notice of tentative approval.

SUMMARY: Notice is hereby given that the State of Michigan is revising its approved Public Water System Supervision Program. Michigan has formally requested primary enforcement authority for the Radionuclides Rule, which will reduce exposure to radionuclides in drinking water and reduce the risk of cancer; the Arsenic and Clarifications to Compliance and New Source Monitoring (Arsenic) Rule, which requires community and non-transient non-community water systems to comply with the revised arsenic maximum contaminant level of 0.010 mg/L; the Long Term 1 Enhanced Surface Water Treatment Rule (LT1ESWTR), which improves public health protection through the control of microbial pathogens, specifically Cryptosporidium, in drinking water; and, the Filter Backwash Recycling Rule (FBRR), which requires changes to the return of recycle flows to a water treatment plant's process that may otherwise compromise microbial control.

EPA has determined that these revisions are no less stringent than the corresponding federal regulations. Therefore, EPA intends to approve these program rules. This approval action does not extend to public water systems (PWSs) in Indian Country, as that term is defined in 18 U.S.C. 1151. By approving these rules, EPA does not intend to affect the rights of federally recognized Indian tribes in Michigan, nor does it intend to limit existing rights of the State of Michigan. Any interested party may request a public hearing. A request for a public hearing must be submitted by July 23, 2007, to the Regional Administrator at the EPA Region 5 address shown below. The Regional Administrator may deny frivolous or insubstantial requests for a hearing. However, if a substantial request for a public hearing is made by July 23, 2007, EPA Region 5 will hold a public hearing. If EPA Region 5 does not receive a timely and appropriate request for a hearing and the Regional Administrator does not elect to hold a hearing on her own motion, this determination shall become final and effective on July 23, 2007. Any request for a public hearing shall include the following information: the name, address, and telephone number of the individual, organization, or other entity requesting a hearing; a brief statement of the requesting person's interest in the Regional Administrator's determination and a brief statement of the information that the requesting person intends to submit at such hearing; and the signature of the individual making the request, or, if the request is made on behalf of an organization or other entity, the signature of a responsible official of the organization or other entity.

ADDRESSES: All documents relating to this determination are available for inspection at the following offices: Michigan Department of Environmental Quality, Water Bureau, Constitution Hall, 525 W. Allegany Street, 2nd Floor, P.O. Box 30273, Lansing, Michigan 48909-7773, between the hours of 8:30 a.m. and 4 p.m., Monday through Friday, and the United States Environmental Protection Agency, Region 5, Ground Water and Drinking Water Branch (WG-15J), 77 West Jackson Boulevard, Chicago, Illinois 60604, between the hours of 9 a.m. and 4:30 p.m., Monday through Friday.

FOR FURTHER INFORMATION CONTACT: Jennifer Kurtz Crooks, EPA Region 5, Ground Water and Drinking Water Branch, at the address given above, by telephone at (312) 886-0244, or at crooks.jennifer@epa.gov.

Authority: Section 1413 of the Safe Drinking Water Act, as amended, 42 U.S.C. 3006-2 (1996), and 40 CFR part 142 of the National Primary Drinking Water Regulations.

Dated: June 5, 2007.
Walter W. Kovalick, Jr.,
Acting Regional Administrator, Region 5.

[FR Doc. E7-12049 Filed 6-20-07; 8:45 am]

BILLING CODE 6560-50-P